DEPARTMENT OF TRANSPORTATION

Federal Aviation Administration

14 CFR Part 39

[Docket No. FAA-2018-0994; Product Identifier 2017-SW-002-AD]

RIN 2120-AA64

Airworthiness Directives; Airbus Helicopters

AGENCY: Federal Aviation Administration (FAA), DOT.

ACTION: Supplemental notice of proposed rulemaking (SNPRM); reopening of comment period.

SUMMARY: The FAA is revising an earlier proposed airworthiness directive (AD) for Airbus Helicopters Model SA330J helicopters that proposed to require replacing certain left-hand (LH) and right-hand (RH) hydraulic pumps. The NPRM was prompted by reports that bolts that attach the cover of the hydraulic pump were broken. This action revises the NPRM by expanding the applicability, changing the proposed requirements, and correcting nomenclature. Since this imposes an additional burden over that proposed in the NPRM, the FAA is reopening the comment period to allow the public the chance to comment on these changes.

DATES: The FAA must receive comments on this SNPRM by July 20, 2020.

ADDRESSES: You may send comments by any of the following methods:

• Federal eRulemaking Docket: Go to https://www.regulations.gov. Follow the online instructions for sending your comments electronically.

• Fax: 202-493-2251.

• Mail: Send comments to the U.S. Department of Transportation, Docket Operations, M-30, West Building Ground Floor, Room W12-140, 1200 New Jersey Avenue SE, Washington, DC 20590-0001.

• Hand Delivery: Deliver to the “Mail” address between 9 a.m. and 5 p.m., Monday through Friday, except Federal holidays.

Examining the AD Docket

You may examine the AD docket on the internet at https://www.regulations.gov by searching for and locating Docket No. FAA-2018-0994; or in person at Docket Operations between 9 a.m. and 5 p.m., Monday through Friday, except Federal holidays. The AD docket contains this proposed AD, the European Aviation Safety Agency (now European Union Aviation Safety Agency) (EASA) AD, any comments received, and other information. The street address for Docket Operations is listed above. Comments will be available in the AD docket shortly after receipt.

For service information identified in this proposed rule, contact Airbus Helicopters, 2701 N Forum Drive, Grand Prairie, TX 75052; telephone 972-641-0000 or 800-232-0323; fax 972-641-3775; or at https://www.airbus.com/helicopters/services/technical-support.html. You may view the referenced service information at the FAA, Office of the Regional Counsel, Southwest Region, 10101 Hillwood Pkwy., Room 6N-321, Fort Worth, TX 76177.

FOR FURTHER INFORMATION CONTACT: Matt Fuller, Senior Aviation Safety Engineer, Safety Management Section, Rotorcraft Standards Branch, FAA, 10101 Hillwood Pkwy., Fort Worth, TX 76177; telephone 817-222-5110; email matthew.fuller@faa.gov.

SUPPLEMENTARY INFORMATION:

Comments Invited

The FAA invites you to participate in this rulemaking by submitting written comments, data, or views. The FAA also invites comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

The FAA will file in the docket all comments received, as well as a report summarizing each substantive public contact with FAA personnel concerning this proposed rulemaking. Before acting on this proposal, the FAA will consider all comments received on or before the closing date for comments. The FAA will consider comments filed after the comment period has closed if it is possible to do so without incurring expense or delay. The FAA may change this proposal in light of the comments received.

Discussion

The FAA issued a notice of proposed rulemaking (NPRM) to amend 14 CFR part 39 to remove AD 2017-14-05, Amendment 39-18949 (82 FR 31899, July 11, 2017) (“AD 2017-14-05”) and add a new AD. AD 2017-14-05 applies to Airbus Helicopters Model SA330J helicopters with certain serial-numbered LH and RH hydraulic pumps part number (P/N) FR65WEO2005-175A installed. EASA, which is the Technical Agent for the Member States of the European Union, had issued EASA Emergency AD No. 2016-0264-E, dated December 22, 2016 (EASA AD 2016-0264-E), which prompted AD 2017-14-05. EASA had advised of reports of broken screws (bolts) that attach the cover of the hydraulic pump. Subsequent investigation identified a batch of screws that have intrinsic embrittlement and reduced mechanical properties because hydrogen was introduced into this batch of screws during production. Accordingly, AD 2017-14-05 requires replacing the RH hydraulic pump within 15 hours time-in-service (TIS) and prohibits the installation of an affected hydraulic pump on any helicopter. The actions of AD 2017-14-05 are intended to prevent failure of a hydraulic pump cover attachment bolt, which could result in loss of fluid from the hydraulic pump, loss of the hydraulic system, and subsequent loss of control of the helicopter.

AD 2017-14-05 requires shorter-term requirements that did not allow enough time to provide notice and opportunity for prior public comment. The NPRM was issued to add a longer-term requirement that allowed enough time to provide notice and opportunity for prior public comment. The NPRM published in the Federal Register on October 21, 2019 (84 FR 56152), and proposed to require replacing an affected RH hydraulic pump within 15 hours TIS from July 26, 2017 (the effective date of AD 2017-14-05), replacing an affected LH hydraulic pump within 110 hours TIS, and also proposed to prohibit installing an affected hydraulic pump on any helicopter.

Actions Since the NPRM Was Issued

Since the FAA issued the NPRM, it was determined that the NPRM addressed only helicopters with affected hydraulic pumps installed on both the LH and RH sides. However, the FAA intended to include helicopters that have only one affected hydraulic pump installed on either the LH or RH side as well. This SNPRM expands the applicability to include helicopters that have an affected hydraulic pump on one or both sides and changes the proposed requirements to address helicopters with an affected hydraulic pump installed on only one side. Further, the nomenclature of “screw” has been corrected to “bolt” in this SNPRM.

Additionally, since the FAA issued the NPRM, the website address for Airbus Helicopters has changed.

Comments

After the NPRM was published, the FAA received comments from two commenters. However, the comments addressed neither the proposed actions nor the determination of the cost to the public. Therefore, the FAA has made no changes based on these comments.

FAA's Determination

The FAA is proposing this SNPRM after evaluating all known relevant information and determining that an unsafe condition is likely to exist or develop on other helicopters of these same type designs. Certain changes described above expand the scope of the original NPRM. As a result, the FAA has determined that it is necessary to reopen the comment period to provide additional opportunity for the public to comment on this SNPRM.

Related Service Information

The FAA reviewed Airbus Helicopters Emergency Alert Service Bulletin No. SA330-29.12, Revision 0, dated December 22, 2016, which specifies removing Nexter Mechanics hydraulic pumps P/N FR65WEO2005-175A with certain serial numbers (S/Ns). If both the RH and LH hydraulic pumps have an affected P/N and S/N, the service information specifies replacing the RH hydraulic pump before further flight and the LH hydraulic pump within 110 flying hours or 6 months. If only one hydraulic pump has an affected P/N and S/N, the service information specifies replacing it within 110 flying hours or 6 months. The service information also specifies that, for 6 months after receipt of the service information, an affected hydraulic pump must be “returned to conformity” by complying with Nexter Mechanics Alert Service Bulletin No. NM/INGE/16-140, Revision 0, dated December 22, 2016, before installation.

Proposed Requirements of the SNPRM

For helicopters with an affected hydraulic pump installed on both the LH and RH sides, this SNPRM would require replacing the RH hydraulic pump within 15 hours TIS from July 26, 2017 (the effective date of AD 2017-14-05) and replacing the LH hydraulic pump within 110 hours TIS. For helicopters with an affected hydraulic pump installed on either the LH or RH side, this SNPRM would require replacing the affected hydraulic pump within 110 hours TIS. This SNPRM would also prohibit installation of an affected hydraulic pump on any helicopter.

Costs of Compliance

The FAA estimates that this proposed AD would affect 24 helicopters of U.S. Registry. Labor costs are estimated at $85 per work-hour. Based on these numbers, the FAA estimates that operators may incur the following costs in order to comply with this proposed AD.

Replacing a hydraulic pump would take about 2 work-hours and parts would cost about $2,500 for an estimated cost of $2,670 per hydraulic pump.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this proposed AD would not have federalism implications under Executive Order 13132. This proposed AD would not have a substantial direct effect on the States, on the relationship between the national government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2017-14-05, Amendment 39-18949 (82 FR 31899, July 11, 2017), and adding the following new AD:

Airbus Helicopters: Docket No. FAA-2018-0994; Product Identifier 2017-SW-002-AD.

(a) Applicability

This AD applies to Airbus Helicopters Model SA330J helicopters, certificated in any category, with a left-hand (LH) or a right-hand (RH) hydraulic pump part number FR65WEO2005-175A with a serial number 4108, 4141, 4177, 4227, 4241, 4284, 4377, 4422, 4570, 4573, 4574, 4641, 4649, 4668, 4766, 4802, 4821, 4831, 4837, 4888, 4896, 4946, 4985, 5023, 5071, 5304, 5366, 5376, 5409, 5442, 5486, 5599, 5630, 94075/01, or 94048/01 installed.

(b) Unsafe Condition

This AD defines the unsafe condition as failure of a bolt attaching the hydraulic pump cover. This condition could result in loss of fluid from the hydraulic pump, resulting in loss of the hydraulic system and subsequent loss of helicopter control.

(c) Affected ADs

This AD replaces AD 2017-14-05, Amendment 39-18949 (82 FR 31899, July 11, 2017) (“AD 2017-14-05”).

(d) Comments Due Date

The FAA must receive comments on this SNPRM by July 20, 2020.

(e) Compliance

You are responsible for performing each action required by this AD within the specified compliance time unless it has already been accomplished prior to that time.

(f) Required Actions

(1) For helicopters with both a LH and RH hydraulic pump that is listed in paragraph (a) of this AD installed:

(i) Within 15 hours time-in-service (TIS) from July 26, 2017 (the effective date of AD 2017-14-05), replace the RH hydraulic pump with an airworthy hydraulic pump that is not listed in paragraph (a) of this AD.

(ii) Within 110 hours TIS from the effective date of this AD, replace the LH hydraulic pump with an airworthy hydraulic pump that is not listed in paragraph (a) of this AD.

(2) For helicopters with either a LH or RH hydraulic pump that is listed in paragraph (a) of this AD installed, within 110 hours TIS from the effective date of this AD, replace the hydraulic pump with an airworthy hydraulic pump that is not listed in paragraph (a) of this AD.

(3) After July 26, 2017 (the effective date of AD 2017-14-05), do not install on any helicopter a hydraulic pump that is listed in paragraph (a) of this AD.

(g) Special Flight Permits

Special flight permits are prohibited.

(h) Alternative Methods of Compliance (AMOCs)

(1) The Manager, Safety Management Section, Rotorcraft Standards Branch, FAA, may approve AMOCs for this AD. Send your proposal to: Matt Fuller, Senior Aviation Safety Engineer, Safety Management Section, Rotorcraft Standards Branch, FAA, 10101 Hillwood Pkwy., Fort Worth, TX 76177; telephone 817-222-5110; email 9-ASW-FTW-AMOC-Requests@faa.gov.

(2) For operations conducted under a 14 CFR part 119 operating certificate or under 14 CFR part 91, subpart K, the FAA suggests that you notify your principal inspector, or lacking a principal inspector, the manager of the local flight standards district office or certificate holding district office, before operating any aircraft complying with this AD through an AMOC.

(i) Additional Information

(1) Airbus Helicopters Emergency Alert Service Bulletin No. SA330-29.12, Revision 0, dated December 22, 2016, and Nexter Mechanics Alert Service Bulletin No. NM/INGE/16-140, Revision 0, dated December 22, 2016, which are not incorporated by reference, contain additional information about the subject of this AD. For service information identified in this AD, contact Airbus Helicopters, 2701 N Forum Drive, Grand Prairie, TX 75052; telephone 972-641-0000 or 800-232-0323; fax 972-641-3775; or at https://www.airbus.com/helicopters/services/technical-support.html. You may view a copy of the service information at the FAA, Office of the Regional Counsel, Southwest Region, 10101 Hillwood Pkwy., Room 6N-321, Fort Worth, TX 76177.

(2) The subject of this AD is addressed in European Aviation Safety Agency (now European Union Aviation Safety Agency) (EASA) AD No. 2016-0264-E, dated December 22, 2016. You may view the EASA AD on the internet at https://www.regulations.gov in Docket No. FAA-2018-0994.

(j) Subject

Joint Aircraft Service Component (JASC) Code: 2913, Hydraulic Pump (Electric/Engine) Main.

Issued on May 15, 2020.
Lance T. Gant,
Director, Compliance & Airworthiness Division, Aircraft Certification Service.

[FR Doc. 2020-10907 Filed 5-20-20; 8:45 am]

BILLING CODE 4910-13-P